DEPARTMENT OF JUSTICE

Notice of Lodging of Consent Decree Under the Comprehensive Environmental Response, Compensation, and Liability Act

Notice is hereby given that on June 27, 2008, a proposed Consent Decree in United States and State of Oklahoma v. Albert Investment, et al., Civil Action No. 5:08-cv-637, was lodged with the United States District Court for the Western District of Oklahoma.

In this action the United States, on behalf of the United States Environmental Protection Agency (“EPA”), sought to recover from certain parties response costs that it incurred in response to releases and threatened releases of hazardous substances from the Double Eagle Refinery Superfund Site (the “Site”) located in Oklahoma City, Oklahoma. The proposed Consent Decree resolves claims alleged by the United States, on behalf of the United States Environmental Protection Agency (“EPA”), and the United States Department of the Interior (“DOI”), under the Comprehensive Environmental Response, Compensation, and Liability Act (“CERCLA”), 42 U.S.C. 9601 et seq. The proposed Consent Decree provides that the Settling Defendants, which sent waste oil containing hazardous substances to the Site for disposal, will pay the United States and the State of Oklahoma approximately $6.48 million in response costs and natural resource damages.

The Department of Justice will receive for a period of thirty (30) days from the date of this publication comments relating to the Consent Decree. Comments should be addressed to the Assistant Attorney General for the Environment and Natural Resources Division, U.S. Department of Justice, and either e-mailed to pubcomment-ees.enrd@usdoj.gov or mailed to P.O. Box 7611, NW., Washington, DC 20044-7611, and should refer to United States and State of Oklahoma v. Albert Investment, et al., DOJ. Ref. 90-11-2-857/2.

The Consent Decree may be examined at the Office of the United States Attorney, Western District of Oklahoma, 210 Park Ave., Suite 400, Oklahoma City, OK 72102, and at the offices of EPA, Region 6, 1445 Ross Ave., Dallas, TX 75202-2733. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.75 (25 cents per page reproduction cost) payable to the U.S. Treasury or, if by e-mail or fax, forward a check in that amount to the Consent Decree Library at the stated address.

Thomas A. Mariani, Jr.,
Assistant Section Chief, Environmental Enforcement Section, Environment and Natural Resources Division.

[FR Doc. E8-16392 Filed 7-16-08; 8:45 am]

BILLING CODE 4410-15-P